ENVIRONMENTAL PROTECTION AGENCY

40 CFR Part 52

[EPA-R07-OAR-2021-0136; FRL-10020-59-Region 7]

Air Plan Approval; Missouri; Control of Volatile Organic Compound Emissions From Wood Furniture Manufacturing Operations

AGENCY: Environmental Protection Agency.

ACTION: Proposed rule.

SUMMARY: The Environmental Protection Agency (EPA) is proposing to approve revisions to the Missouri State Implementation Plan (SIP) received on February 15, 2019. The submission revises Missouri's regulation that restricts the emissions of volatile organic compounds from wood furniture manufacturing operations in St. Louis City and Jefferson, St. Charles, Franklin, and St. Louis Counties. Specifically, the revisions to the proposed rule specify that this proposed rule only applies to sources that were existing at the time of the rule's promulgation, remove the unnecessary use of restrictive words, update references, and make minor clarifications and grammatical changes. These revisions do not have an adverse effect on air quality. The EPA's proposed approval of this proposed rule revision is being done in accordance with the requirements of the Clean Air Act (CAA). Approval of these revisions will ensure consistency between state and federally-approved rules.

DATES: Comments must be received on or before April 7, 2021.

ADDRESSES: You may send comments, identified by Docket ID No. EPA-R07-OAR-2021-0136, to https://www.regulations.gov. Follow the online instructions for submitting comments.

Instructions: All submissions received must include the Docket ID No. for this rulemaking. Comments received will be posted without change to https://www.regulations.gov/, including any personal information provided. For detailed instructions on sending comments and additional information on the rulemaking process, see the “Written Comments” heading of the SUPPLEMENTARY INFORMATION section of this document.

FOR FURTHER INFORMATION CONTACT: William Stone, Environmental Protection Agency, Region 7 Office, Air Quality Planning Branch, 11201 Renner Boulevard, Lenexa, Kansas 66219; telephone number: (913) 551-7714; email address: stone.william@epa.gov.

SUPPLEMENTARY INFORMATION: Throughout this document “we,” “us,” and “our” refer to the EPA.

Table of Contents

I. Written Comments

II. What is being addressed in this document?

III. Background

IV. What is the EPA's analysis of Missouri's SIP revision request?

V. Have the requirements for approval of a SIP revision been met?

VI. What action is the EPA taking?

VII. Incorporation by Reference

VIII. Statutory and Executive Order Reviews

I. Written Comments

Submit your comments, identified by Docket ID No. EPA-R07-OAR-2021-0136, at https://www.regulations.gov. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

II. What is being addressed in this document?

The EPA is proposing to approve revisions to the Missouri SIP received on February 15, 2019. The revisions are to Title 10, Division 10 of the Code of State Regulations, 10 CSR 10-5.530 “Control of Volatile Organic Compound Emissions From Wood Furniture Manufacturing Operations”, which restricts the emissions of volatile organic compounds (VOC) from wood furniture manufacturing operations in St. Louis City and Jefferson, St. Charles, Franklin, and St. Louis Counties (hereinafter referred to in this document as the “St. Louis Area”). These revisions are described in detail in the technical support document (TSD) included in the docket for this action.

Missouri received six comments from the EPA during the comment period. Missouri responded to all six comments, as noted in the State submission included in the docket for this action.

Missouri also provided supplemental information which is included in the docket that addressed the comments. The EPA is proposing to approve the revisions to this rulemaking because it will not have a negative impact on air quality.

III. Background

The EPA first approved 10 CSR 10-5.530 “Control of Volatile Organic Compound Emissions From Wood Furniture Manufacturing Operations”, into the Missouri SIP as a reasonably available control technology (RACT) rule on May 18, 2000 (65 FR 31489, May 18, 2000). At the time the rule was approved into the SIP, 10 CSR 10-5.530 applied to all wood furniture manufacturing installations throughout the St. Louis Area that had the potential to emit equal to or greater than twenty-five (25) tons per year of VOC.

By letter dated February 15, 2019, Missouri requested that the EPA approve revisions to 10 CSR 10-5.530 into the SIP. Section 110(l) of the CAA prohibits the EPA from approving a SIP revision that interferes with any applicable requirement concerning attainment and reasonable further progress (RFP), or any other applicable requirement of the CAA. The State supplemented its SIP revision with a August 1, 2019 letter in order to address the requirements of section 110(l) of the CAA.

IV. What is the EPA's analysis of Missouri's SIP revision request?

In its August 1, 2019 letter, Missouri states that it intended its RACT rules, such as 10 CSR 10 5.530, to solely apply to existing sources in accordance with section 172(c)(1) of the CAA.¹ Missouri states that although the applicability section of 10 CSR 10 5.530 specifies that the rule applies to all installations located throughout the St. Louis Area, the only facilities that met the applicability criteria of the rule were (1) K & R Wood Products Inc in St. Charles County, (2) Integram—St. Louis Seating in Franklin County, and (3) Lozier (Formerly Spartan) in Franklin County.

¹ The EPA agrees with Missouri's interpretation of CAA section 172(c)(1) in regard to whether RACT is required for existing sources, but also notes that the State regulation establishing RACT may apply to new sources as well, dependent upon the State regulation's language.

Missouri, in its August 1, 2019 letter, indicated K & R Wood Products Inc in St. Charles County, Integram—St. Louis Seating in Franklin County and Lozier (Formerly Spartan) in Franklin County all went “out of business” in 2009, 2010 and 2017, respectively. The EPA confirmed all three facilities are no longer in operation ² and are therefore no longer subject to 10 CSR 10-5.530.

² The EPA reviewed MoDNR's website that lists active, issued permits to facilities in Missouri and did not observe a permit for these facilties. Further, the EPA reviewed EPA's ICIS-Air database which indicated that two of the facilties are “permanently closed.” The website for the third facility, Lozier, indicated no operations in the St. Louis Area.

A fourth business, Artistic Wood of St. Louis Cuunty, was referenced in the St. Louis Ozone Nonattainment Area Rate Of Progress Plan which is included in the docket for this action. Missouri Department of Natural Resources (MoDNR) determined that Artistic Wood was never subject to the rule, because its potential to emit (PTE) was below the applicability threshold of 25 tons per year (tpy). This source went out of business in 2006.

A fifth business, Lami Wood Products of St. Charles County, is still in operation, but is not subject to the rule because the source has taken a federally enforceable voluntary permit limit. The intermediate operating permit, number OP2017-070, including this limit, was issued September 8, 2017 and is included in the docket for this action.

As stated above, Missouri contends that the applicability section of 10 CSR 10-5.530 may be revised to apply only to existing sources because section 172(c)(1) of the CAA requires RACT for existing sources. Because 10 CSR 10-5.530 was applicable only to sources that are out of business or have taken limits and are no longer subject to the rule, the rule no longer reduces VOC emissions. Because these facilities are no longer subject to the rule, the EPA believes the rule no longer provides an emission reduction benefit to the St. Louis Area and therefore approving the revisions to applicability portion of this rule will not have a negative impact on air quality.

Missouri's August 1, 2019 letter states that any new sources or major modifications of existing sources are subject to new source review (NSR) permitting. Under NSR, a new major source or major modification of an existing source with a PTE of 250 tpy ³ or more of any national ambient air quality standards (NAAQS) pollutant is required to obtain a Prevention of Significant Deterioration (PSD) permit when the source is in an area designated as attainment or unclassifiable, which requires an analysis of Best Available Control Technology (BACT) in addition to an air quality analysis and an additional impacts analysis. Sources with a PTE greater than 100 tpy, but less than 250 tpy ⁴, are required to obtain a minor permit in accordance with Missouri's NSR permitting program, which is approved into the SIP.⁵ Further, a new major source or major modification of an existing source with a PTE of 100 tpy or more of any NAAQS pollutant is required to obtain a nonattainment (NA) NSR permit when the area is in nonattainment, which requires an analysis of Lowest Achievable Emission Rate (LAER) in addition to an air quality analysis, an additional impacts analysis and emission offsets. The EPA agrees with this analysis.

³ The PSD major source threshold for certain sources is 100 tpy rather than 250 tpy (see 40 CFR 52.21(b)(1)(i)(a) and 10 C.S.R. 10-6.060(8)(A)).

⁴ Except for those sources with a PSD major source threshold of 100 tpy.

⁵ The EPA's latest approval of Missouri's NSR permitting program rule was published in the Federal Register on October 11, 2016 (81 FR 70025).

V. Have the requirements for approval of a SIP revision been met?

The state submission has met the public notice requirements for SIP submissions in accordance with 40 CFR 51.102. The submission also satisfied the completeness criteria of 40 CFR part 51, appendix V. The state provided public notice on this SIP revision from June 15, 2018, to September 6, 2018, and held a public hearing on August 30, 2018. The state received and addressed six comments from the EPA. As explained in more detail in the TSD which is included in the docket for this action, the SIP revision submission meets the substantive requirements of the CAA, including section 110 and implementing regulations.

VI. What action is the EPA taking?

The EPA is proposing to amend the Missouri SIP by approving the State's request to revise 10 CSR 10-5.530 “Control of Volatile Organic Compound Emissions From Wood Furniture Manufacturing Operations.” Approval of these revisions will ensure consistency between state and federally-approved rules. Based on analysis in the TSD included in the docket for this action, the EPA has determined that these changes will not adversely impact air quality.

The EPA is processing this as a proposed action because we are soliciting comments on the action. Final rulemaking will occur after consideration of any comments.

VII. Incorporation by Reference

In this document, the EPA is proposing to include regulatory text in a final rule that includes incorporation by reference. In accordance with requirements of 1 CFR 51.5, the EPA is proposing to incorporate by reference the Missouri Regulations described in the proposed amendments to 40 CFR part 52 set forth below. The EPA has made, and will continue to make, these materials generally available through www.regulations.gov and at the EPA Region 7 Office (please contact the person identified in the FOR FURTHER INFORMATION CONTACT section of this preamble for more information).

VIII. Statutory and Executive Order Reviews

Under the Clean Air Act (CAA), the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of the National Technology Transfer and Advancement Act (NTTA) because this rulemaking does not involve technical standards; and

• Does not provide the EPA with the discretionary authority to address, as appropriate, disproportionate human health or environmental effects, using practicable and legally permissible methods, under Executive Order 12898 (59 FR 7629, February 16, 1994).

The SIP is not approved to apply on any Indian reservation land or in any other area where the EPA or an Indian tribe has demonstrated that a tribe has jurisdiction. In those areas of Indian country, the proposed rule does not have tribal implications and will not impose substantial direct costs on tribal governments or preempt tribal law as specified by Executive Order 13175 (65 FR 67249, November 9, 2000).

List of Subjects in 40 CFR Part 52

Environmental protection, Air pollution control, Incorporation by reference, Volatile organic compounds.

Dated: February 22, 2021.
Edward H. Chu,
Acting Regional Administrator, Region 7.

For the reasons stated in the preamble, the EPA proposes to amend 40 CFR part 52 as set forth below:

PART 52—APPROVAL AND PROMULGATION OF IMPLEMENTATION PLANS

1. The authority citation for part 52 continues to read as follows:

Authority: 42 U.S.C. 7401 et seq.

Subpart AA—Missouri

2. In § 52.1320, the table in paragraph (c) is amended by revising the entry “10-5.530” to read as follows:

§ 52.1320 Identification of plan.

* * * * *

(c) * * *

EPA-Approved Missouri Regulations
Missouri citation | Title | State effective date | EPA approval date | Explanation
Missouri Department of Natural Resources
* * * * * * *
Chapter 5—Air Quality Standards and Air Pollution Control Regulations for the St. Louis Metropolitan Area
* * * * * * *
10-5.530 | Control of Volatile Organic Compound Emissions From Wood Furniture Manufacturing Operations | 2/28/2019 | [Date of publication of the final rule in the Federal Register], [Federal Register citation of the final rule]
* * * * * * *

* * * * *

[FR Doc. 2021-04031 Filed 3-5-21; 8:45 am]

BILLING CODE 6560-50-P